DEPARTMENT OF ENERGY

Western Area Power Administration

Washoe Project—Rate Order No. WAPA-176

AGENCY: Western Area Power Administration, DOE.

ACTION: Notice of proposed extension of non-firm power formula rate.

SUMMARY: The Western Area Power Administration (WAPA) proposes to extend the existing Washoe Project, Stampede Division, non-firm power formula rate through September 30, 2022. The existing Rate Schedule SNF-7 expires September 30, 2017.

DATES: A consultation and comment period starts with the publication of this notice and will end on October 11, 2016. WAPA will accept written comments any time during the consultation and comment period.

ADDRESSES: Send written comments to: Ms. Regina Rieger, Rates Manager, Sierra Nevada Region, Western Area Power Administration, 114 Parkshore Drive, Folsom, CA 95630-4710; or email comments to SNR-Rates@wapa.gov. All documents WAPA uses to develop the proposed Washoe non-firm power formula rate extension will be available for inspection and copying at the Sierra Nevada Region, located at 114 Parkshore Drive, Folsom, CA 95630-4710. WAPA also will post comments received to its Web site, https://www.wapa.gov/regions/SN/rates/Pages/rates.aspx.

FOR FURTHER INFORMATION CONTACT: Ms. Regina Rieger, Rates Manager, Sierra Nevada Region, Western Area Power Administration, 114 Parkshore Drive, Folsom, CA 95630-4710, (916) 353-4629, email: SNR-Rates@wapa.gov.

SUPPLEMENTARY INFORMATION: The existing formula rate provides sufficient revenue to recover annual expenses, interest, and capital requirements, within the cost recovery criteria set forth in DOE Order RA 6120.2; therefore, WAPA proposes to extend the current formula rate schedule for five years.

By Delegation Order No. 00-037.00A, effective October 25, 2013, the Secretary of Energy delegated: (1) The authority to develop power and transmission rates to WAPA's Administrator; (2) the authority to confirm, approve, and place such rates into effect on an interim basis to the Deputy Secretary of Energy; and (3) the authority to confirm, approve, and place into effect on a final basis, to remand or to disapprove such rates to the Federal Energy Regulatory Commission (FERC).

FERC confirmed and approved the Washoe Project non-firm power formula rate, Rate Schedule SNF-7, on April 16, 2009,¹ and the subsequent extension on September 5, 2013.² In accordance with 10 CFR part 903.23(a), WAPA proposes to extend the existing formula rate for the period October 1, 2017, through September 30, 2022.

¹ See U.S. Dept. of Energy, Western Area Power Admin., 127 FERC ¶ 62,043 (2009).

² See U.S. Dept. of Energy, Western Area Power Admin., 144 FERC ¶ 62,213 (2013).

By way of background, Congress declared all Washoe Project costs non-reimbursable except the Stampede Powerplant.³ The average Stampede generation, approximately 10 gigawatt hours annually, is used principally to provide energy for two Federal fish hatcheries. Since the Washoe Project has no Federally-owned transmission lines, WAPA contracted with Truckee Donner Public Utility District and the City of Fallon (TDPUD/Fallon) to accept Stampede generation and serve project use loads. Energy in excess of project use loads is integrated with the Central Valley Project (CVP) and marketed under the 2004 Power Marketing Plan. Pursuant to Rate Schedule SNF-7, each year, any remaining reimbursable expenses, in excess of the revenue collected under the TDPUD/Fallon contract, are transferred to the CVP and incorporated into the CVP power revenue requirement.

³ See Fallon Paiute Shoshone Indian Tribes Water Rights Settlement Act, Public Law 101-618, 104 Stat. 3289, 3307 (1990).

In accordance with 10 CFR part 903.23(a)(2), WAPA determined it is not necessary to hold a public information or public comment forum, but is providing a 30-day comment period. Comments must be received by the end of the comment period. WAPA will post comments received to its Web site, https://www.wapa.gov/regions/SN/rates/Pages/rates.aspx. After considering public comments, WAPA will take further action on the proposed formula rate extension consistent with 10 CFR part 903.23(a).

Dated: September 1, 2016.
Mark A. Gabriel,
Administrator.

[FR Doc. 2016-21740 Filed 9-8-16; 8:45 am]

BILLING CODE 6450-01-P